DEPARTMENT OF TRANSPORTATION

Federal Aviation Administration

14 CFR Part 39

[Docket No. FAA-2005-22557; Directorate Identifier 2005-NM-147-AD; Amendment 39-14660; AD 2006-13-07]

RIN 2120-AA64

Airworthiness Directives; McDonnell Douglas Model MD-11 and MD-11F Airplanes

AGENCY: Federal Aviation Administration (FAA), Department of Transportation (DOT).

ACTION: Final rule.

SUMMARY: The FAA is superseding an existing airworthiness directive (AD) that applies to certain McDonnell Douglas Model MD-11 and MD-11F airplanes. That AD currently requires replacement of the upper and lower reading lights in the forward crew rest area with a redesigned light fixture. This new AD adds airplanes to the applicability of the existing AD. This AD results from a report of the old reading lights being inadvertently sent to an additional ten airplanes. We are issuing this AD to prevent a possible flammable condition, which could result in smoke and fire in the forward crew rest area.

DATES: This AD becomes effective July 27, 2006.

The Director of the Federal Register approved the incorporation by reference of a certain publication listed in the AD as of July 27, 2006.

The Director of the Federal Register approved the incorporation by reference of a certain other publication listed in the AD as of August 23, 2000 (65 FR 44672, July 19, 2000).

ADDRESSES: You may examine the AD docket on the Internet at http://dms.dot.gov or in person at the Docket Management Facility, U.S. Department of Transportation, 400 Seventh Street, SW., Nassif Building, room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2000-14-12, amendment 39-11822 (65 FR 44672, July 19, 2000). The existing AD applies to certain McDonnell Douglas MD-11 series airplanes. That NPRM was published in the Federal Register on September 30, 2005 (70 FR 57219). That NPRM proposed to continue to require replacement of the upper and lower reading lights in the forward crew rest area with a redesigned light fixture. That NPRM also proposed to add airplanes to the applicability of the existing AD.

Comments

We provided the public the opportunity to participate in the development of this AD. We have considered the comments from one commenter that have been received on the NPRM.

Request for Clarification of Parts Installation Paragraph

The Modification and Replacement Parts Association (MARPA) asks whether the prohibition in the Parts Installation paragraph is against the combination of reading lamp and light fixture, or are both parts being prohibited independent of each other.

From this comment, we infer that MARPA would like us to clarify the Parts Installation paragraph regarding the prohibition of the subject reading lamp and light fixture. We agree that clarification is necessary. It is the combination of the lamp and light fixture that is prohibited. The design of the subject lamp and light fixture could allow articles, such as a blanket, to become embedded in the fixture assembly, which could result in a possible fire. The new design has a much smaller lamp and the fixture assembly has ventilation holes. The lamp, part number (P/N) 2232, is used in other areas of the airplane without causing any safety issues. We have revised paragraph (h) of this AD to clarify the intent of that paragraph.

Request to Reference Parts Manufacturer Approval (PMA) Parts

MARPA also asks what lamp is to be used in place of lamp P/N 2232 and requests that the language in the NPRM be changed to permit installation of PMA equivalent parts. MARPA states that the mandated installation of a certain P/N in the NPRM “would appear to not meet the requirements of 14 CFR Section 21.303.” To avoid these conflicting requirements, MARPA suggests appending the phrase “or other FAA-approved equivalent part” to any mandated part installation.

We infer that MARPA would like the AD to permit installation of any equivalent PMA parts so that it is not necessary for an operator to request approval of an alternative method of compliance (AMOC) in order to install an “equivalent” PMA part. Whether an alternative part is “equivalent” in adequately resolving the unsafe condition can only be determined on a case-by-case basis based on a complete understanding of the unsafe condition. Our policy is that, in order for operators to replace a part with one that is not specified in the AD, they must request an AMOC. This is necessary so that we can make a specific determination that an alternative part is or is not susceptible to the same unsafe condition. Therefore, we also do not agree to add the qualifying statement “or other FAA approved part.”

The AD provides a means of compliance for operators to ensure that the identified unsafe condition is addressed appropriately. For an unsafe condition attributable to a part, the AD normally identifies the replacement parts necessary to obtain that compliance. As stated in section 39.7 of the Federal Aviation Regulations (14 CFR 39.7), “Anyone who operates a product that does not meet the requirements of an applicable airworthiness directive is in violation of this section.” Unless an operator obtains approval for an AMOC, replacing a part with one not specified by the AD would make the operator subject to an enforcement action and result in a civil penalty. We acknowledge that there may be other ways of addressing this issue. Once we have thoroughly examined all aspects of this issue, including input from industry, and have made a final determination, we will consider whether our policy regarding PMA parts in ADs needs to be revised. However, we consider that to delay this AD action would be inappropriate, since we have determined that an unsafe condition exists and that replacement of certain parts must be accomplished to ensure continued safety. Therefore, no change to the AD is necessary in this regard.

In response to the MARPA's statement regarding a deviation from FAR 21.303, under which the FAA issues PMAs, this statement appears to reflect a misunderstanding of the relationship between ADs and the certification procedural regulations of part 21 of the Federal Aviation Regulations (14 CFR part 21). Those regulations, including § 21.303 of the Federal Aviation Regulations (14 CFR 21.203), are intended to ensure that aeronautical products comply with the applicable airworthiness standards. But ADs are issued when, notwithstanding those procedures, we become aware of unsafe conditions in these products or parts. Therefore, an AD takes precedence over design approvals when we identify an unsafe condition, and mandating installation of a certain P/N in an AD is not at variance with § 21.303.

Request To Address Defective PMA Parts

MARPA also requests that the NPRM be revised to cover possible defective PMA alternative parts, rather than just a single P/N, so that those defective PMA parts also are subject to the proposed AD. MARPA notes that there are known PMA parts with different P/Ns for a reading lamp with P/N 2232, and requests that the NPRM account for any PMA parts that might contain the same deficiencies as the OEM part and be installed in its place.

We agree with MARPA's general request that, if we know that an unsafe condition also exists in PMA parts, the AD should address those parts, as well as the original parts. The commenter's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. No change to the AD is necessary in this regard.

Request To Consider Broader Aspects of an Identified Problem

MARPA admonishes the FAA for “simply echoing the requirements of manufacturer service documents and believes that it is the “obligation of AD writers to look more deeply.” MARPA concludes that simply adopting the manufacturers' service bulletins could result in a commercial advantage to one manufacturer over another, even though both manufacturers produce approved parts.

Although MARPA's remarks above do not specifically request a change to this AD, we would like to clarify that we do use service bulletins as starting points for our research into the development of an AD, when they are available, because of the original equipment manufacturer (OEM's) expertise and broad knowledge of the product. Often, service information may not even be available that addresses a particular identified unsafe condition. In all cases, we may also consult with other aeronautical experts, specialists, and vendors, and we may research databases, reports, testing results, etc., to ensure that the unsafe condition is addressed in an appropriate and timely manner. No change has been made to the AD as a result of MARPA's remarks in the previous paragraph.

Explanation of Change to Service Bulletin Citation

We have revised the citation of Alert Service Bulletin MD11-25A233, Revision 1, dated May 10, 2005, throughout the AD to reflect the current manufacturer name, Boeing, instead of McDonnell Douglas. This change reflects the information published in the most recent type certificate data sheet for the affected models.

Conclusion

We have carefully reviewed the available data, including the comments that have been received, and determined that air safety and the public interest require adopting the AD with the changes described previously. We have determined that these changes will neither increase the economic burden on any operator nor increase the scope of the AD.

Costs of Compliance

There are about 81 airplanes of the affected design in the worldwide fleet. The existing AD affects about 14 airplanes of U.S. registry. This AD affects an additional 10 airplanes of U.S. registry.

The actions that are required by AD 2000-14-12 and retained in this AD take about 1 work hour per airplane, at an average labor rate of $65 per work hour. Required parts cost about $933 per airplane. Based on these figures, the estimated cost of the currently required actions is $998 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11822 (65 FR 44672, July 19, 2000) and by adding the following new airworthiness directive (AD):

2006-13-07 McDonnell Douglas: Amendment 39-14660. Docket No. FAA-2005-22557; Directorate Identifier 2005-NM-147-AD.

Effective Date

(a) This AD becomes effective July 27, 2006.

Affected ADs

(b) This AD supersedes AD 2000-14-12.

Applicability

(c) This AD applies to McDonnell Douglas Model MD-11 and MD-11F airplanes, certificated in any category, as identified Boeing Alert Service Bulletin MD11-25A233, Revision 1, dated May 10, 2005.

Unsafe Condition

(d) This AD results from reports of burning and smoldering blankets in the forward crew rest area due to a reading light fixture that came into contact with the blankets after the light was inadvertently left on. We are issuing this AD to prevent a possible flammable condition, which could result in smoke and fire in the forward crew rest area.

Compliance

(e) You are responsible for having the actions required by this AD performed within the compliance times specified, unless the actions have already been done.

Restatement of the Requirements of AD 2000-14-12

Replacement

(f) For airplanes identified in McDonnell Douglas Alert Service Bulletin MD11-25A233, dated June 9, 1999: Within 6 months after August 23, 2000 (the effective date of AD 2000-14-12), replace the upper and lower reading lights in the forward crew rest area with a redesigned light fixture, in accordance with McDonnell Douglas Alert Service Bulletin MD11-25A233, dated June 9, 1999; or Boeing Alert Service Bulletin MD11-25A233, Revision 1, dated May 10, 2005. After the effective date of this AD, do the replacement in accordance with Boeing Alert Service Bulletin MD11-25A233, Revision 1, dated May 10, 2005.

Note 1: McDonnell Douglas Alert Service Bulletin MD11-25A233 refers to AIM Aviation Service Incorporated Service Bulletin AIM-MD11-25-2, Revision C, dated March 8, 1999; and Revision D, dated March 16, 2005; as additional sources of service information for replacing the upper and lower reading lights in the forward crew rest area.

New Requirements of This AD

Replacement

(g) For all airplanes except those identified in paragraph (f) of this AD: Within 6 months after the effective date of this AD, do the replacement specified in paragraph (f) of this AD.

Parts Installation

(h) As of the effective date of this AD, no person may install, on any airplane, a reading lamp, part number (P/N) 2232, in combination with light fixture, P/N 0200500-001.

Alternative Methods of Compliance (AMOCs)

(i)(1) The Manager, Los Angeles Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously in accordance with AD 2000-14-12, amendment 39-11822, are approved as AMOCs for the corresponding provisions of this AD.

Material Incorporated by Reference

(j) You must use McDonnell Douglas Alert Service Bulletin MD11-25A233, dated June 9, 1999; or Boeing Alert Service Bulletin MD11-25A233, Revision 1, dated May 10, 2005, as applicable, to perform the actions that are required by this AD, unless the AD specifies otherwise.

(1) The Director of the Federal Register approved the incorporation by reference of Boeing Alert Service Bulletin MD11-25A233, Revision 1, dated May 10, 2005, in accordance with 5 U.S.C. 552(a) and 1 CFR part 51.

(2) On August 23, 2000 (65 FR 44672, July 19, 2000), the Director of the Federal Register approved the incorporation by reference of McDonnell Douglas Alert Service Bulletin MD11-25A233, dated June 9, 1999.

(3) Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 14, 2006.
Kalene C. Yanamura,
Acting Manager, Transport Airplane Directorate, Aircraft Certification Service.

[FR Doc. 06-5550 Filed 6-21-06; 8:45 am]

BILLING CODE 4910-13-P